DEPARTMENT OF COMMERCE

National Oceanic and Atmospheric Administration

[I.D. 082800E]

Gulf of Mexico Fishery Management Council; Public Meeting

AGENCY: National Marine Fisheries Service (NMFS), National Oceanic and Atmospheric Administration (NOAA), Commerce.

ACTION: Notice of public meeting.

SUMMARY: The Gulf of Mexico Fishery Management Council will convene a public meeting of the Texas Habitat Protection Advisory Panel (AP).

DATES: The AP meeting is scheduled to begin at 9:00 a.m. on September 19, 2000, and will conclude by 4:00 p.m.

ADDRESSES: The meeting will be held at the Courtyard by Marriott, 9190 Gulf Freeway, Houston, TX 77017; telephone: 713-910-1700.

Council address: Gulf of Mexico Fishery Management Council, 3018 U.S. Highway 301 North, Suite 1000, Tampa, FL 33619.

FOR FURTHER INFORMATION CONTACT: Dr. Richard Leard, Senior Fishery Biologist, Gulf of Mexico Fishery Management Council; telephone: 813-228-2815.

SUPPLEMENTARY INFORMATION: The AP will convene to tentatively discuss the Houston-Galveston Ship Channel barge lane expansion, the monitoring plan for Wild Cow Bayou, the Corpus Christi Ship Channel deepening project, the new bridge project across LaVaca Bay, and the Nature Conservancy’s EcoRegion planning efforts. The AP will also review the Council’s Submerged Aquatic Vegetation Policy and the Council’s Wetland Management Policy.

Although other non-emergency issues not on the agendas may come before the AP for discussion, in accordance with the Magnuson-Stevens Fishery Conservation and Management Act, those issues may not be the subject of formal action during these meetings. Actions of the AP will be restricted to those issues specifically identified in the agendas and any issues arising after publication of this notice that require emergency action under Section 305(c) of the Magnuson-Stevens Act, provided the public has been notified of the Council's intent to take action to address the emergency.

The Texas Habitat AP is part of a three-unit Habitat Protection AP of the Gulf of Mexico Fishery Management Council (Council). The principal role of the advisory panels is to assist the Council in addressing issues related to Essential Fish Habitat (EFH) and other habitat and ecological relationships supporting the marine resources of the Gulf of Mexico. Advisory panels serve as a first alert system to call to the Council’s attention proposed projects being developed and other activities which may adversely impact the Gulf marine fisheries and their supporting habitat. The APs may also provide advice to the Council on EFH, as well as policies and procedures for addressing environmental affairs.

Copies of the agenda can be obtained by calling 813-228-2815.

Special Accommodations

This meeting is physically accessible to people with disabilities. Requests for sign language interpretation or other auxiliary aids should be directed to Anne Alford at the Council (see ADDRESSES) by September 12, 2000.

Dated: August 29, 2000.
Richard W. Surdi,
Acting Director, Office of Sustainable Fisheries, National Marine Fisheries Service.

[FR Doc. 00-22549 Filed 8-31-00; 8:45 am]

BILLING CODE: 3510-22-S